DEPARTMENT OF THE INTERIOR

National Park Service

[NPS-WASO-NAGPRA-NPS0038883; PPWOCRADN0-PCU00RP14.R50000]

Notice of Inventory Completion: Fernbank Museum of Natural History, Atlanta, GA

AGENCY: National Park Service, Interior.

ACTION: Notice.

SUMMARY: In accordance with the Native American Graves Protection and Repatriation Act (NAGPRA), Fernbank Museum of Natural History has completed an inventory of human remains and associated funerary objects and has determined that there is a cultural affiliation between the human remains and associated funerary objects and Indian Tribes or Native Hawaiian organizations in this notice.

DATES: Repatriation of the human remains and associated funerary objects in this notice may occur on or after November 14, 2024.

ADDRESSES: Wil Grewe-Mullins, Fernbank Museum of Natural History, 767 Clifton Rd. NE, Atlanta, GA 30307, telephone (404) 929-6312, email Wil.Grewe-Mullins@fernbankmuseum.org.

SUPPLEMENTARY INFORMATION: This notice is published as part of the National Park Service's administrative responsibilities under NAGPRA. The determinations in this notice are the sole responsibility of the Fernbank Museum of Natural History, and additional information on the determinations in this notice, including the results of consultation, can be found in its inventory or related records. The National Park Service is not responsible for the determinations in this notice.

Abstract of Information Available

Human remains representing, at minimum, one individual have been identified from 9LI43, Cunningham Mound A, on St. Catherines Island in Liberty County, Georgia. The four associated funerary objects include one lot ceramic sherds, one lot lithic debitage, one lithic flake tool, and one lot soil samples. These materials were recovered during archaeological excavations conducted in 1975 and 1977 by the American Museum of Natural History (AMNH) under the direction of Dr. David Hurst Thomas. The remains were subsequently subjected to bioarcheological study under the direction of Dr. Clark S. Larsen, working in collaboration with the AMNH. After storage for intervals at the AMNH and on St. Catherines Island, the remains and funerary objects were transferred in 2004 to Fernbank Museum of Natural History by the St. Catherines Island and Edward John Noble Foundations.

Human remains representing, at minimum, five individuals have been identified from 9LI45, Cunningham Mound C, on St. Catherines Island in Liberty County, Georgia. The 19 associated funerary objects include one lot ceramic sherds, one animal bone, two glass fragments, one groundstone object, eight pieces of lithic debitage, one biface, one projectile point, one nail or spike, one lot of unworked shell, one unmodified stone, and one soil sample. These materials were recovered during archaeological excavations conducted in 1975 and 1977 by the AMNH under the direction of Dr. David Hurst Thomas. The remains were subsequently subjected to bioarcheological study under the direction of Dr. Clark S. Larsen, working in collaboration with the AMNH. After storage for intervals at the AMNH and on St. Catherines Island, the remains were transferred in 2004 to Fernbank Museum of Natural History by the St. Catherines Island and Edward John Noble Foundations. The remains are all adults and at least two represent females. At least some burials occurred as extended or cremated interments. Funerary objects recovered from the site were also transferred to Fernbank in 2004.

Human remains representing, at minimum, three individuals have been identified from 9LI46, Cunningham Mound D, on St. Catherines Island in Liberty County, Georgia. The 66 associated funerary objects include two unmodified stone objects, two hammerstones, one metal bead, one glass bead, two pieces of copper, one metal shot or bullet, one lot ceramic sherds, 37 nails or spikes, 11 projectile points, six scrapers, one lot coffin wood, and one lithic flake. These materials were recovered during archaeological excavations conducted from 1976-1977 by the AMNH under the direction of Dr. David Hurst Thomas. The remains were subsequently subjected to bioarcheological study under the direction of Dr. Clark S. Larsen, working in collaboration with the AMNH. After storage for intervals at the AMNH and on St. Catherines Island, the remains were transferred in 2004 to Fernbank Museum of Natural History by the St. Catherines Island and Edward John Noble Foundations. The remains are all adults and at least one is female and another male. At least some burials occurred as flexed or bundled interments. Funerary objects recovered from the site were also transferred to Fernbank in 2004.

Human remains representing, at minimum, one individual have been identified from 9LI28, Cunningham Mound E, on St. Catherines Island in Liberty County, Georgia. The two associated funerary objects include one lot of ceramic sherds and one piece of lithic debitage. These materials were recovered during archaeological excavations conducted around 1970 by the University of Georgia under the direction of Dr. Joseph R. Caldwell, and from 1976-1977 by the AMNH under the direction of Dr. David Hurst Thomas. The remains were subsequently subjected to bioarcheological study under the direction of Dr. Clark S. Larsen, working in collaboration with the AMNH. After storage for intervals at University of Georgia, the AMNH, and on St. Catherines Island, the remains were transferred in 2004 to Fernbank Museum of Natural History by the St. Catherines Island and Edward John Noble Foundations. The remains represent an adult female interred in a bundle. Funerary objects recovered from the site were also transferred to Fernbank in 2004.

Human remains representing, at minimum, 70 individuals have been identified from 9LI18, John's Mound, on St. Catherines Island in Liberty County, Georgia. The 214 associated funerary objects include one lot ceramic sherds, one lot non-human bone, one polished human phalanx, two bone awls, three ceramic vessels, three quartz cobbles, one pearl, one sand dollar, one unmodified stone, one groundstone object, 193 shell beads, one lot marine shell, and five soil samples. These materials were recovered during archaeological excavations conducted in 1969-1970 by the University of Georgia under the direction of Dr. Joseph R. Caldwell. The remains were subsequently subjected to bioarcheological study under the direction of Dr. Clark S. Larsen, working in collaboration with the AMNH. After storage for intervals at University of Georgia and on St. Catherines Island, the remains were transferred in 2004 to Fernbank Museum of Natural History by the St. Catherines Island and Edward John Noble Foundations. The remains represent at least 44 adults and 13 sub-adults, 13 of which have been identified as female and 16 male. Burials occurred as bundled and extended interments. Funerary objects recovered from the site were also transferred to Fernbank in 2004.

Human remains representing, at minimum, five individuals were recovered from 9LI20, Mary's Mound, on St. Catherines Island in Liberty County, Georgia. The 25 associated funerary objects include six whole and partial ceramic vessels, two awls, one lot ceramic sherds, one lithic flake, one pipe fragment, 10 modified whelk shells, three unmodified marine shells, and one lot non-human bone. These materials were recovered during archaeological excavations conducted in 1970 by the University of Georgia under the direction of Dr. Joseph Caldwell, and in 1977 by the AMNH under the direction of Dr. David Hurst Thomas. The remains were subsequently subjected to bioarcheological study under the direction of Dr. Clark S. Larsen, working in collaboration with the AMNH. After storage for intervals at University of Georgia, the AMNH, and on St. Catherines Island, the remains were transferred in 2004 to Fernbank Museum of Natural History by the St. Catherines Island and Edward John Noble Foundations. The remains represent at least two adults and three sub-adults, at least two of which are female. Burials occurred as either flexed or bundled interments. Funerary objects recovered from the site were also transferred to Fernbank in 2004.

Human remains representing, at minimum, 20 individuals were recovered from 9LI47, McLeod Mound, on St. Catherines Island in Liberty County, Georgia. The 14 associated funerary objects include two projectile points, one lithic scraper, one lot ceramic sherds, one shark tooth, five pieces non-human bone, one lithic debitage, one metal shot or bullet, one mineral fragment, and one unidentified stone. The materials were recovered during archaeological excavations conducted from 1975-1976 by the AMNH under the direction of Dr. David Hurst Thomas. The remains were subsequently subjected to bioarcheological study under the direction of Dr. Clark S. Larsen, working in collaboration with the AMNH. After storage for intervals at the AMNH and on St. Catherines Island, the remains were transferred in 2004 to Fernbank Museum of Natural History by the St. Catherines Island and Edward John Noble Foundations. The remains are all adults, at least ten of which are female and three are male. Burials occurred as extended and bundled interments. Funerary objects recovered from the site were also transferred to Fernbank in 2004.

Human remains representing, at minimum, 19 individuals were recovered from 9LI26, Seaside Mound I, on St. Catherines Island in Liberty County, Georgia. The eight associated funerary objects include one lot ceramic sherds, one lithic scraper, two projectile points, one modified shell, one modified bone item, one lot non-human bone, and one lot lithic debitage. The materials were recovered during archaeological excavations conducted in 1970 by the University of Georgia under the direction of Dr. Joseph Caldwell, and in 1977 by the AMNH under the direction of Dr. David Hurst Thomas. The remains were subsequently subjected to bioarcheological study under the direction of Dr. Clark S. Larsen, working in collaboration with the AMNH. After storage for intervals at University of Georgia, the AMNH, and on St. Catherines Island, the remains were transferred in 2004 to Fernbank Museum of Natural History by the St. Catherines Island and Edward John Noble Foundations. The remains represent at least 15 adults and four sub-adults, at least two of which are female and five male. Burials occurred as bundled and extended interments. Funerary objects recovered from the site were also transferred to Fernbank in 2004.

Human remains representing, at minimum, 14 individuals were recovered from 9LI62, Seaside Mound II, on St. Catherines Island in Liberty County, Georgia. The five associated funerary objects include one lot ceramic sherds, one lot lithic debitage, and three projectile points. The materials were recovered during archaeological excavations conducted from 1976-1977 by the AMNH under the direction of Dr. David Hurst Thomas. The remains were subsequently subjected to bioarcheological study under the direction of Dr. Clark S. Larsen, working in collaboration with the AMNH. After storage for intervals at the AMNH and on St. Catherines Island, the remains were transferred in 2004 to Fernbank Museum of Natural History by the St. Catherines Island and Edward John Noble Foundations. The remains represent at least 13 adults and one sub-adult, at least four of which are female and three are male. Burials occurred as bundled and extended interments. Funerary objects recovered from the site were also transferred to Fernbank in 2004.

Human remains representing, at minimum, one individual were recovered from 9LI12, South New Ground Mound, on St. Catherines Island in Liberty County, Georgia. The one lot of associated funerary objects include one lot of ceramic sherds. The materials were recovered during archaeological excavations conducted in 1976-1977 by the AMNH under the direction of Dr. David Hurst Thomas. The remains were subsequently subjected to bioarcheological study under the direction of Dr. Clark S. Larsen, working in collaboration with the AMNH. After storage for intervals at the AMNH and on St. Catherines Island, the remains were transferred in 2004 to Fernbank Museum of Natural History by the St. Catherines Island and Edward John Noble Foundations. The remains are those of an adult female. Funerary objects recovered from the site were also transferred to Fernbank in 2004.

Associated funerary objects were recovered from 9LI3, South End Mound I, on St. Catherines Island in Liberty County, Georgia. The 224 objects include one lot ceramic sherds, two ceramic pipe stems, one lot lithic debitage, one projectile point, one button, one unidentified metal fragment, 211 shell beads, one lot modified and unmodified whelk shells, three mineral fragments, one unmodified stone, and one lot soil samples. The materials were recovered during archaeological excavations conducted in 1986 by the AMNH under the direction of Dr. David Hurst Thomas, and from 1991-1993 under the direction of Dr. Clark Spencer Larsen. After storage for intervals at The Ohio State University, the AMNH, and on St. Catherines Island, the remains were transferred in 2004 to Fernbank Museum of Natural History by the St. Catherines Island and Edward John Noble Foundations. The human remains associated with these objects have been listed in a Notice of Inventory Completion published in the Federal Register on August 20, 2009 (74 FR 42098-42100).

Human remains representing, at minimum, 18 individuals were recovered from 9LI273, South End Mound II, on St. Catherines Island in Liberty County, Georgia. The 58 associated funerary objects include one lot ceramic sherds, three glass beads, four hammerstones, one piece unmodified stone, one lot lithic debitage, four lithic bifaces, three modified lithics, 35 lead fragments, three granite items, one lot copper sheet fragments, and two modified shells. The materials were recovered during archaeological excavations conducted from 1979-1980 by the AMNH under the direction of Dr. David Hurst Thomas. The remains were subsequently subjected to bioarcheological study under the direction of Dr. Clark S. Larsen, working in collaboration with the AMNH. After storage for intervals at the AMNH and on St. Catherines Island, the remains were transferred in 2004 to Fernbank Museum of Natural History by the St. Catherines Island and Edward John Noble Foundations. The remains represent at least 13 adults and two sub adults, at least three of which are female and one male. At least some of the burials represented cremated remains. Funerary objects recovered from the site were also transferred to Fernbank in 2004.

Cultural Affiliation

Based on the information available and the results of consultation, cultural affiliation is reasonably identified by the geographical location or acquisition history of the human remains and associated funerary objects described in this notice.

Determinations

The Fernbank Museum of Natural History has determined that:

• The human remains described in this notice represent the physical remains of at least 157 individuals of Native American ancestry.

• The 640 objects described in this notice are reasonably believed to have been placed intentionally with or near individual human remains at the time of death or later as part of the death rite or ceremony.

• There is a connection between the human remains and associated funerary objects described in this notice and the Alabama-Quassarte Tribal Town; Miccosukee Tribe of Indians; Poarch Band of Creek Indians; Seminole Tribe of Florida; The Muscogee (Creek) Nation; The Seminole Nation of Oklahoma; and Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 14, 2024. If competing requests for repatriation are received, the Fernbank Museum of Natural History must determine the most appropriate requestor prior to repatriation. Requests for joint repatriation of the human remains and associated funerary objects are considered a single request and not competing requests. The Fernbank Museum of Natural History is responsible for sending a copy of this notice to the Indian Tribes and Native Hawaiian organizations identified in this notice.

Authority: Native American Graves Protection and Repatriation Act, 25 U.S.C. 3003, and the implementing regulations, 43 CFR 10.10.

Dated: October 4, 2024.
Melanie O'Brien,
Manager, National NAGPRA Program.

[FR Doc. 2024-23724 Filed 10-11-24; 8:45 am]

BILLING CODE 4312-52-P